NATIONAL TRANSPORTATION SAFETY BOARD

Sunshine Act Meeting

TIME AND PLACE: 9:30 a.m., Tuesday, September 18, 2001

PLACE: NTSB Conference Center, 429 L'Enfant Plaza SW., Washington, DC 20594.

STATUS: The two items are Open to the Public.

MATTERS TO BE CONSIDERED:

7385—Railroad Accident Report: Collision of Amtrak Train 304-26 with a Highway Vehicle at a Highway-Rail Grade Crossing in McLean, Illinois, on September 26, 1999

7392A—Marine Accident Report: Fire On Board the U.S. Passenger Ferry Columbia, Chatham Strait, about 30 nautical miles Southwest of Juneau, Alaska, on June 6, 2000

News Media Contact: Telephone: (202) 314-6100.

Individuals requesting specific accommodations should contact Ms. Carolyn Dargan at (202) 314-6305 by Friday, September 14, 2001.

FOR FURTHER INFORMATION CONTACT: Vicky D'Onofrio, (202) 314-6410.

September 7, 2001.
Vicky D'Onofrio,
Federal Register Liaison Officer.

[FR Doc. 01-22938 Filed 9-7-01; 3:44 pm]

BILLING CODE 7533-01-M